SMALL BUSINESS ADMINISTRATION

Audit and Financial Management Advisory (AFMAC)

AGENCY: U.S. Small Business Administration.

ACTION: Notice of open Federal advisory committee meeting.

SUMMARY: The SBA is issuing this notice to announce the location, date, time, and agenda for the next meeting of the Audit and Financial Management Advisory (AFMAC). The meeting will be open to the public.

DATES: The meeting will be held on October 31, 2011 from 1 p.m. to approximately 3 p.m. Eastern Daylight Time.

ADDRESSES: The meeting will be accomplished via teleconference with the U.S. Small Business Administration, 409 3rd Street, SW., Office of the Chief Financial Officer, Washington, DC 20416.

SUPPLEMENTARY INFORMATION: Pursuant to section 10(a)(2) of the Federal Advisory Committee Act (5 U.S.C., Appendix 2), SBA announces the meeting of the AFMAC. The AFMAC is tasked with providing recommendation and advice regarding the Agency's financial management, including the financial reporting process, systems of internal controls, audit process and process for monitoring compliance with relevant laws and regulations.

The purpose of the meeting is to discuss SBA's FY 2011 Financial Statements, Credit Modeling, FMFIA Assurance/A-123 Results, Management's Planned Assertions Statement for Inclusion in the Annual Financial Report, FY 2011 Agency Financial Report, FY 2011 Agency Performance Report, and the Auditor's Anticipated Opinion Letter, Anticipated Report on Significant Control Deficiencies or Material Weaknesses, and Anticipated Comments on SBA Compliance with Laws and Administrative Regulations.

FOR FURTHER INFORMATION CONTACT: The meeting is open to the public, however advance notice of attendance is requested. Anyone wishing to attend and/or make a presentation to the AFMAC must contact Jonathan Carver, by fax or e-mail, in order to be placed on the agenda. Jonathan Carver, Chief Financial Officer, 409 3rd Street, SW., 6th Floor, Washington, DC 20416, phone: (202) 205-6449, fax: (202) 205-6969, e-mail: Jonathan.Carver@sba.gov.

Additionally, if you need accommodations because of a disability or require additional information, please contact Jeff Brown at (202) 205-6117, e-mail: Jeffrey.Brown@sba.gov, SBA, Office of Chief Financial Officer, 409 3rd Street, SW., Washington, DC 20416.

For more information, please visit our Web site at http://www.sba.gov/aboutsba/sbaprograms/cfo/index.html.

Dan S. Jones,
White House Liaison.

[FR Doc. 2011-26832 Filed 10-18-11; 8:45 am]

BILLING CODE 8025-01-M